SMALL BUSINESS ADMINISTRATION

[Disaster Declaration # 20303 and # 20304; Oklahoma Disaster Number OK-20001]

Presidential Declaration Amendment of a Major Disaster for the State of Oklahoma

AGENCY: U.S. Small Business Administration.

ACTION: Amendment 5.

SUMMARY: This is an amendment of the Presidential declaration of a major disaster for the State of Oklahoma (FEMA-4776-DR), dated 04/30/2024.

Incident: Severe Storms, Straight-line Winds, Tornadoes, and Flooding.

Incident Period: 04/25/2024 through 05/09/2024.

DATES: Issued on 05/13/2024.

Physical Loan Application Deadline Date: 07/01/2024.

Economic Injury (EIDL) Loan Application Deadline Date: 01/30/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Oklahoma, dated 04/30/2024, is hereby amended to include the following areas as adversely affected by the disaster:

Primary Counties (Physical Damage and Economic Injury Loans): Washita.

Contiguous Counties (Economic Injury Loans Only):

Oklahoma: Beckham, Caddo, Custer, Kiowa

All other information in the original declaration remains unchanged.

(Catalog of Federal Domestic Assistance Number 59008)

Francisco Sánchez, Jr.,
Associate Administrator, Office of Disaster Recovery & Resilience.

[FR Doc. 2024-10925 Filed 5-17-24; 8:45 am]

BILLING CODE 8026-09-P